DEPARTMENT OF THE INTERIOR

Bureau of Land Management

[WO-250-1220-PA-24 1A]

Notice of Bureau of Land Management Implementation of Recreation Resource Advisory Committee Provisions of the Federal Lands Recreation Enhancement Act

AGENCY: Bureau of Land Management, Interior.

ACTION: Notice.

SUMMARY: Notice is hereby given of the Bureau of Land Management's (BLM) implementation of the Recreation Resource Advisory Committee (R/RAC) provisions of the Federal Lands Recreation Enhancement Act (REA).

The BLM Resource Advisory Council (RAC) charters have been modified to reflect that upon the request of the BLM RAC's Designated Federal Official, and with the concurrence of the U.S. Forest Service (USFS) when their recreation fee proposals are at issue, the BLM RACs may review recreation fee proposals for BLM and/or USFS if that would facilitate the effective implementation of REA. The BLM will publish a Federal Register Notice if and when a BLM RAC serves to review recreation fee proposals.

FOR FURTHER INFORMATION CONTACT: Allison Sandoval, U.S. Department of the Interior, Bureau of Land Management, 1849 C Street MS-5070, Washington, DC 20240, Phone (202) 208-4294; Anthony Bobo, Jr., U.S. Department of the Interior, Bureau of Land Management, 1849 C Street, MS-M-250, Washington, DC 20240, Phone (202) 912-7248.

SUPPLEMENTARY INFORMATION: On September 1, 2006, the BLM and USFS signed an Interagency Agreement which provided the structure necessary for the USFS to use existing BLM RACs and the BLM to use USFS-established R/RACs for the public participation purposes required by REA. Pursuant to the Interagency Agreement, the BLM and USFS utilized the BLM Resource Advisory Councils (RAC) to make recommendations on BLM and USFS recreation fee proposals in the following states: Arizona, Idaho, Montana, Nevada, New Mexico, North Dakota, South Dakota and Utah. The BLM and USFS utilized USFS R/RACs for the USFS's Eastern, Southern, Pacific Northwest (including BLM land in Oregon and Washington), Pacific Southwest (including BLM land in California) Regions, and the BLM and USFS land in the State of Colorado. The governors of Wyoming and Alaska have opted out of the advisory review process.

Although the Interagency Agreement expired September 1, 2011, the agencies have incorporated the outlined structure into current policies and procedures. Upon the request of the BLM RAC's Designated Federal Official, and with the concurrence of the USFS when their recreation fee proposals are at issue, the BLM RACs may review recreation fee proposals for BLM and/or USFS if that would facilitate the effective implementation of the REA.

Authority: Public Law 108-447, Div. J, Title VIII.

Mike Pool,
Deputy Director.

[FR Doc. 2012-2168 Filed 1-31-12; 8:45 am]

BILLING CODE 4310-84-P